DEPARTMENT OF COMMERCE

National Oceanic and Atmospheric Administration

RIN 0648-XE373

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Whiting Committee on January 21, 2016 to consider actions affecting New England fisheries in the exclusive economic zone (EEZ). Recommendations from this group will be brought to the full Council for formal consideration and action, if appropriate.

DATES: This meeting will be held on Thursday, January 21, 2016 at 10 a.m.

ADDRESSES:

Meeting address: The meeting will be held at the Hampton Inn, 2100 Post Road, Warwick, RI 02886; telephone: (401) 739-8888; fax: (401) 739-1550.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review Amendment 22 scoping comments and develop recommendations for the range of issues to be addressed by the amendment. The Council will then approve the scope of the amendment at its January Council meeting. The Committee will also review and discuss PDT recommendations for five-year Council research priorities. Other business may be discussed if time permits.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: December 18, 2015.
Tracey L. Thompson,
Acting Deputy Director, Office of Sustainable Fisheries, National Marine Fisheries Service.

[FR Doc. 2015-32298 Filed 12-22-15; 8:45 am]

BILLING CODE 3510-22-P